DEPARTMENT OF THE TREASURY

Submission for OMB Review; Comment Request

May 7, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before June 13, 2008 to be assured of consideration.

Internal Revenue Service (IRS)

OMB Number: 1545-0731.

Type of Review: Extension.

Title: PS-262-82 (Final) Definition of an S Corporation.

Description: The regulations provide the procedures and the statements to be filed by certain individuals for making the election under section 1361(d)(2), the refusal to consent to that election, or the revocation of that election. The statements required to be filed would be used to verify that taxpayers are complying with requirements imposed by Congress under subchapter S.

Respondents: Businesses or other for-profit institutions.

Estimated Total Burden Hours: 1,005 hours.

OMB Number: 1545-0988.

Type of Review: Extension.

Title: Form 8609, Low-Income Housing Credit Allocation Certification, Schedule A (Form 8609) Annual Statement.

Form: 8609.

Description: Owners of residential low-income rental buildings may claim a low-income housing credit for each qualified building over a 10-year credit period. Form 8609 is used to bet a credit allocation from the housing-credit agency. The form, along with Schedule A, is used by the owner to certify necessary information required by the law.

Respondents: Businesses or other for-profit institutions.

Estimated Total Burden Hours: 3,329,400 hours.

OMB Number: 1545-2089.

Type of Review: Extension.

Title: Report of Employer-Owned Life Insurance Contracts.

Form: 8925.

Description: IRC 6039I requires every policyholder of employer-owned life insurance contracts to file a return showing the number of contracts owned, the total number of employees at the end of the year, the number of such employees insured, and that the policyholder has a valid consent for each insured employee. Form 8925 is used to report this information.

Respondents: Businesses or other for-profit institutions.

Estimated Total Burden Hours: 71,360 hours.

OMB Number: 1545-1570.

Type of Review: Extension.

Title: REG-120168-97 (Final) Preparer Due Diligence Requirements for Determining Earned Income Credit Eligibility.

Description: Income tax return preparers who satisfy the due diligence requirements in this regulation will avoid the imposition of the penalty under section 6695(g) of the Internal Revenue Code for returns or claims for refund due after December 31, 1997. The due diligence requirements include soliciting the information necessary to determine a taxpayer's eligibility for, and amount of, the Earned Income Tax Credit, and the retention of this information.

Respondents: Businesses or other for-profit institutions.

Estimated Total Burden Hours: 507,136 hours.

OMB Number: 1545-2086.

Type of Review: Extension.

Title: Notice 2007-100, Transition Relief and Guidance on Corrections of Certain Failures of a Nonqualified Deferred Compensation Plan to comply with § 409A(a) in Operation.

Description: This Notice sets forth the procedures to be followed by service recipients and service provides in order to correct certain operational failures of a nonqualified deferred compensation plan to comply with § 409A(a). It also describes the types of operational failures that can be corrected under the Notice.

Respondents: Businesses or other for-profit institutions.

Estimated Total Burden Hours: 5,000 hours.

OMB Number: 1545-1914.

Type of Review: Revision.

Title: Low Sulfur Diesel Fuel Production Credit.

Form: 8896.

Description: IRC section 45H allows small business refiners a 5 cent/gallon credit for the production of low sulfur diesel fuel.

Respondents: Businesses or other for-profit institutions.

Estimated Total Burden Hours: 313 hours.

OMB Number: 1545-1780.

Type of Review: Extension.

Title: TD 9052—Notice of Significant Reduction in the Rate of Future Benefit Accrual; REG-136193-01 (Final) Notice of Significant Reduction in the Rate of Future Benefit Accrual.

Form: 1065-B, Schedule K-1.

Description: In order to protect the rights of participants in qualified pension plans, plan administrators must provide notice to plan participants and other parties, if the plan is amended in a particular manner. No government agency receives this information.

Respondents: Businesses and other for-profit institutions.

Estimated Total Burden Hours: 40,000 hours.

OMB Number: 1545-1672.

Type of Review: Extension.

Title: REG-142299-01 and REG-209135-88 (Final) Certain Transfers of Property to Regulated Investment Companies (RICs) and Real Estate Investment Trusts (REITs).

Description: The regulation applies with respect to the net built-in gain of Corporation property that becomes property of a Regulated Investment Company (RIC) or Real Estate Investment Trust (REIT) by the qualification of a Corporation as a RIC or REIT or by the transfer of property of a Corporation to a RIC or REIT in certain tax-free transactions.

Respondents: Businesses or other for-profit institutions.

Estimated Total Burden Hours: 70 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-10710 Filed 5-13-08; 8:45 am]

BILLING CODE 4830-01-P